DEPARTMENT OF COMMERCE

Foreign-Trade Zones Board

[Docket 52-2008]

Proposed Foreign-Trade Zone; Lansing, MI; Application and Public Hearing

An application has been submitted to the Foreign-Trade Zones Board (the Board) by the Capital Region Airport Authority to establish a general-purpose foreign-trade zone at the Capital Region International Airport in Lansing, Michigan. The Capital Region International Airport has been designated by U.S. Customs and Border Protection as a user fee airport. The application was submitted pursuant to the provisions of the FTZ Act, as amended (19 U.S.C. 81a-81u), and the regulations of the Board (15 CFR Part 400). It was formally filed on October 1, 2008. The applicant is authorized to make the proposal under Michigan Public Acts 1963, No. 154.

The proposed zone would consist of one site covering 846 acres, located at the Capital Region International Airport, at 4100 Capital City Boulevard, Lansing, Michigan. The site is owned by the Capital Region Airport Authority.

The application indicates a need for zone services in Lansing, Michigan. Several firms have indicated an interest in using zone procedures for warehousing/distribution activities for a variety of products. Specific manufacturing approvals are not being sought at this time. Requests would be made to the Board on a case-by-case basis.

In accordance with the Board's regulations, Kathleen Boyce of the FTZ staff is designated examiner to investigate the application and report to the Board.

As part of the investigation, the Commerce examiner will hold a public hearing on November 6, 2008 at 1 pm, Capital Region Airport Authority, 4100 Capital City Boulevard, 1st Floor Community Room, Lansing, Michigan.

Public comment on the application is invited from interested parties. Submissions (original and 3 copies) shall be addressed to the Board's Executive Secretary at the address listed below. The closing period for their receipt is December 8, 2008. Rebuttal comments in response to material submitted during the foregoing period may be submitted during the subsequent 15-day period (to December 22, 2008).

A copy of the application and accompanying exhibits will be available for public inspection at the Capital Region Airport Authority, 4100 Capital City Blvd., 3rd Floor, Lansing, Michigan, and Office of the Executive Secretary, Foreign-Trade Zones Board, Room 2111, U.S. Department of Commerce, 1401 Constitution Avenue, NW., Washington, DC 20230.

For further information, contact Kathleen Boyce at Kathleen_Boyce@ita.doc.gov or (202) 482-1346.

Dated: October 1, 2008.
Andrew McGilvray,
Executive Secretary.

[FR Doc. E8-23886 Filed 10-7-08; 8:45 am]

BILLING CODE 3510-DS-P